DEPARTMENT OF THE TREASURY

Office of Foreign Assets Control

Additional Designation of Entities Pursuant to Executive Order 12978

AGENCY: Office of Foreign Assets Control, Treasury.

ACTION: Notice.

SUMMARY: The Treasury Department's Office of Foreign Assets Control (“OFAC”) is publishing the names of 12 newly-designated entities whose property and interests in property are blocked pursuant to Executive Order 12978 of October 21, 1995, “Blocking Assets and Prohibiting Transactions with Significant Narcotics Traffickers.” In addition, OFAC is publishing changes to the identifying information associated with nine persons previously designated pursuant to Executive Order 12978.

DATES: The designation by the Director of OFAC of the 12 entities identified in this notice pursuant to Executive Order 12978 is effective on May 20, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: (202) 622-0077.

Background

On October 21, 1995, the President, invoking the authority, inter alia, of the International Emergency Economic Powers Act (50 U.S.C. 1701-1706), issued Executive Order 12978 (60 Fed. Reg. 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for or goods or services in support of, the narcotics trafficking activities of persons designated in or pursuant to this order; and (4) persons determined by the Secretary of the Treasury, in consultation with the Attorney General and the Secretary of State, to be owned or controlled by, or to act for or on behalf of, persons designated pursuant to this Order.

On May 20, 2008, the Director of OFAC, in consultation with the Attorney General and Secretary of State, as well as the Secretary of Homeland Security, designated 12 entities whose property and interests in property are blocked pursuant to the Order.

The list of additional designees is as follows:

1. A K DIFUSION S.A. PUBLICIDAD Y MERCADEO, Calle 28N No. 6BN-54, Cali, Colombia; NIT # 900015699-8 (Colombia) [SDNT].

2. A K EDUCAL S.A. EDUCACION CON CALIDAD, Calle 28N No. 6BN-54, Cali, Colombia; NIT # 900015704-7 (Colombia) [SDNT].

3. ADMINISTRACION DE RECURSOS FINANCIEROS E.U. (a.k.a. AFIN E.U.), Calle 20N No. 6AN-19 ofc. 67-68, Cali, Colombia; NIT # 805013294-5 (Colombia) [SDNT].

4. ARTURO QUINONEZ LTDA. (a.k.a. RESTAURANTE SANTA COLOMBIA), Calle 10 No. 46-120, Cali, Colombia; NIT # 900093492-3 (Colombia) [SDNT].

5. B R C S.A. (a.k.a. BARRERA RIOS CAMACHO ADMINISTRACION Y FINANZAS S.A.), Calle 28N No. 6BN-54, Cali, Colombia; NIT # 900021843-7 (Colombia) [SDNT].

6. COMERCIALIZADORA CGQ LTDA. (a.k.a. CENTROPARTES CALI), Carrera 18 No. 9-24, Cali, Colombia; NIT # 805029062-3 (Colombia) [SDNT].

7. GRUPO INVERSOR PRINCIPE DE VERGARA S.L., Calle Jarilla, 5-Pis 4 B, Madrid 28043, Spain; C.I.F. B84758374 (Spain) [SDNT].

8. LA HOLANDA S.A., Calle 23C No. 3BISN-26, Cali, Colombia; NIT # 805025864-5 (Colombia) [SDNT].

9. PROMOTORES DE BIENES RAICES S.A. (a.k.a. PROMOBIENES S.A.), Calle 20N No. 6AN-19 ofc. 67, Cali, Colombia; NIT # 805001651-1 (Colombia) [SDNT].

10. RIOS JIMENEZ S. EN C.S., Carrera 18 No. 38-35, Bogota, Colombia; NIT # 830007478-1 (Colombia) [SDNT].

11. SERPROVIS S.A. SERVICIOS Y PROVISIONES, Calle 28N No. 6BN-54, Cali, Colombia; NIT # 900023730-2 (Colombia) [SDNT].

12. VALERO Y ASOCIADOS GABINETE JURIDICO S.L., Paseo Alameda, 60, Valencia 46023, Spain; C.I.F. B97393029 (Spain) [SDNT].

In addition, OFAC has made changes to the identifying information associated with the following nine persons previously designated pursuant to the Order:

1. BARRERA RIOS, Alfonso, c/o ALFONSO BARRERA RIOS Y CIA S. EN C.S., Cali, Colombia; c/o APVA S.A., Cali, Colombia; c/o BARRERA RIOS NEGOCIOS INMOBILIARIOS E.U., Cali, Colombia; c/o CECEP EDITORES S.A., Cali, Colombia; c/o CECEP S.A., Cali, Colombia; c/o ENSAMBLADORA COLOMBIANA AUTOMOTRIZ S.A., Barranquilla, Colombia; c/o NEGOCIOS Y CAPITALES S.A., Pereira, Colombia; c/o WORLD LINE SYSTEM S.A., Palmira, Valle, Colombia; Calle 14 Oeste No. 2B1-45 apto. 302E, Cali, Colombia; DOB 08 Dec 1975; POB Cali, Colombia; Cedula No. 79648943 (Colombia); Passport AJ963037 (Colombia) (individual) [SDNT].

2. BARRERA RIOS, Alvaro Enrique, c/o ALFONSO BARRERA RIOS Y CIA. S. EN C.S., Cali, Colombia; c/o ALVARO ENRIQUE BARRERA RIOS Y CIA S. EN C.S., Cali, Colombia; c/o APVA S.A., Cali, Colombia; c/o BARRERA RIOS NEGOCIOS INMOBILIARIOS E.U., Cali, Colombia; c/o CECEP EDITORES S.A., Cali, Colombia; c/o CECEP S.A., Cali, Colombia; c/o COMERCIALIZADORA DE BIENES Y SERVICIOS ADMINISTRATIVOS Y FINANCIEROS S.A., Cali, Colombia; c/o ENSAMBLADORA COLOMBIANA AUTOMOTRIZ S.A., Barranquilla, Colombia; c/o NEGOCIOS Y CAPITALES S.A., Pereira, Colombia; c/o WORLD LINE SYSTEM S.A., Palmira, Valle, Colombia; Carrera 54A No. 5A-21, Cali, Colombia; DOB 05 Dec 1968; POB Cali, Colombia; Cedula No. 16758185 (Colombia); Passport AJ149349 (Colombia) (individual) [SDNT].

3. BARRERA RIOS, Victoria Eugenia, c/o ALFONSO BARRERA RIOS Y CIA. S. EN C.S., Cali, Colombia; c/o APVA S.A., Cali, Colombia; c/o CECEP EDITORES S.A., Cali, Colombia; c/o CECEP S.A., Cali, Colombia; c/o ENSAMBLADORA COLOMBIANA AUTOMOTRIZ S.A., Barranquilla, Colombia; c/o NEGOCIOS Y CAPITALES S.A., Pereira, Colombia; c/o WORLD LINE SYSTEM S.A., Palmira, Valle, Colombia; Transversal 18 No. 127-43 Torre 4 apto. 1201, Bogota, Colombia; DOB 11 Dec 1970; POB Cali, Colombia; Cedula No. 66818996 (Colombia); Passport AI939751 (Colombia) (individual) [SDNT].

4. ESPITIA ORTIZ, Mauricio Arturo (a.k.a. SPITIA, Mauricio), c/o ESVA S.C.S., Cali, Colombia; c/o M S CONSTRUCTORES LTDA., Cali, Colombia; c/o SPITIA VALENCIA LTDA., Cali, Colombia; c/o ARQUITECTOS UNIDOS LTDA., Cali, Colombia; Carrera 25 F No. 7-15 Oeste, Cali, Colombia; Carrera 42 No. 8-36, Cali, Colombia; Spain; DOB 29 Dec 1959; POB Barranquilla, Colombia; Cedula No. 16634827 (Colombia); Passport AJ424421 (Colombia) (individual) [SDNT].

5. QUINONES, Benedicto (a.k.a. QUINONEZ, Benedicto), c/o QUINONES MELO Y CIA. LTDA., Cali, Colombia; DOB 25 Jun 1946; POB Cali, Colombia; Cedula No. 14934266 (Colombia); Passport 14934266 (Colombia) (individual) [SDNT].

6. ROSERO ANGULO, German, Mexico; Calle 40 No. 27-59, Cali, Colombia; DOB 07 Oct 1964; POB Ipiales, Narino, Colombia; Cedula No. 16708846 (Colombia); Passport AF832289 (Colombia) (individual) [SDNT].

7. VALERO JIMENEZ, Alejandro, c/o UNIDAD CARDIOVASCULAR LTDA., Cali, Colombia; Transversal 18 No. 102-42 apto. 401, Bogota, Colombia; 826 SW Canary Terrace, Port St. Lucie, FL 34953; DOB 25 Oct 1967; POB Cali, Colombia; Cedula No. 16746340 (Colombia); Passport P059298 (Colombia) (individual) [SDNT].

8. VALERO JIMENEZ, Luis Hernan, Avenida 4N No. 19N-34, Cali, Colombia; Spain; DOB 22 Sep 1965; Cedula No. 16723237 (Colombia); Passport 16723237 (Colombia) (individual) [SDNT].

9. VALERO SANCHEZ, Francisco Javier, c/o ASESORIAS OCUPACIONALES LTDA., Cali, Colombia; c/o UNIDAD CARDIOVASCULAR LTDA., Cali, Colombia; Cedula No. 2436976 (Colombia) (individual) [SDNT].

The listings now appear as the following:

1. BARRERA RIOS, Alfonso, c/o ALFONSO BARRERA RIOS Y CIA S. EN C.S., Cali, Colombia; c/o APVA S.A., Cali, Colombia; c/o BARRERA RIOS NEGOCIOS INMOBILIARIOS E.U., Cali, Colombia; c/o CECEP EDITORES S.A., Cali, Colombia; c/o CECEP S.A., Cali, Colombia; c/o ENSAMBLADORA COLOMBIANA AUTOMOTRIZ S.A., Barranquilla, Colombia; c/o NEGOCIOS Y CAPITALES S.A., Pereira, Colombia; c/o WORLD LINE SYSTEM S.A., Palmira, Valle, Colombia; Calle 14 Oeste No. 2B1-45 apto. 302E, Cali, Colombia; c/o A K DIFUSION S.A. PUBLICIDAD Y MERCADEO, Cali, Colombia; c/o A K EDUCAL S.A. EDUCACION CON CALIDAD, Cali, Colombia; c/o B R C S.A., Cali, Colombia; c/o SERPROVIS S.A. SERVICIOS Y PROVISIONES, Cali, Colombia; DOB 08 Dec 1975; POB Cali, Colombia; Cedula No. 79648943 (Colombia); Passport AJ963037 (Colombia) (individual) [SDNT].

2. BARRERA RIOS, Alvaro Enrique, c/o ALFONSO BARRERA RIOS Y CIA. S. EN C.S., Cali, Colombia; c/o ALVARO ENRIQUE BARRERA RIOS Y CIA S. EN C.S., Cali, Colombia; c/o APVA S.A., Cali, Colombia; c/o BARRERA RIOS NEGOCIOS INMOBILIARIOS E.U., Cali, Colombia; c/o CECEP EDITORES S.A., Cali, Colombia; c/o CECEP S.A., Cali, Colombia; c/o COMERCIALIZADORA DE BIENES Y SERVICIOS ADMINISTRATIVOS Y FINANCIEROS S.A., Cali, Colombia; c/o ENSAMBLADORA COLOMBIANA AUTOMOTRIZ S.A., Barranquilla, Colombia; c/o NEGOCIOS Y CAPITALES S.A., Pereira, Colombia; c/o WORLD LINE SYSTEM S.A., Palmira, Valle, Colombia; Carrera 54A No. 5A-21, Cali, Colombia; c/o A K DIFUSION S.A. PUBLICIDAD Y MERCADEO, Cali, Colombia; c/o A K EDUCAL S.A. EDUCACION CON CALIDAD, Cali, Colombia; c/o B R C S.A., Cali, Colombia; c/o SERPROVIS S.A. SERVICIOS Y PROVISIONES, Cali, Colombia; DOB 05 Dec 1968; POB Cali, Colombia; Cedula No. 16758185 (Colombia); Passport AJ149349 (Colombia) (individual) [SDNT].

3. BARRERA RIOS, Victoria Eugenia, c/o ALFONSO BARRERA RIOS Y CIA. S. EN C.S., Cali, Colombia; c/o APVA S.A., Cali, Colombia; c/o CECEP EDITORES S.A., Cali, Colombia; c/o CECEP S.A., Cali, Colombia; c/o ENSAMBLADORA COLOMBIANA AUTOMOTRIZ S.A., Barranquilla, Colombia; c/o NEGOCIOS Y CAPITALES S.A., Pereira, Colombia; c/o WORLD LINE SYSTEM S.A., Palmira, Valle, Colombia; Transversal 18 No. 127-43 Torre 4 apto. 1201, Bogota, Colombia; c/o A K DIFUSION S.A. PUBLICIDAD Y MERCADEO, Cali, Colombia; c/o A K EDUCAL S.A. EDUCACION CON CALIDAD, Cali, Colombia; c/o B R C S.A., Cali, Colombia; c/o RIOS JIMENEZ S. EN C.S., Bogota, Colombia; c/o SERPROVIS S.A. SERVICIOS Y PROVISIONES, Cali, Colombia; DOB 11 Dec 1970; POB Cali, Colombia; Cedula No. 66818996 (Colombia); Passport AI939751 (Colombia) (individual) [SDNT].

4. ESPITIA ORTIZ, Mauricio Arturo (a.k.a. SPITIA, Mauricio), c/o ESVA S.C.S., Cali, Colombia; c/o M S CONSTRUCTORES LTDA., Cali, Colombia; c/o SPITIA VALENCIA LTDA., Cali, Colombia; c/o ARQUITECTOS UNIDOS LTDA., Cali, Colombia; Carrera 25 F No. 7-15 Oeste, Cali, Colombia; Carrera 42 No. 8-36, Cali, Colombia; Spain; c/o GRUPO INVERSOR PRINCIPE DE VERGARA S.L., Madrid, Spain; Calle Ayala 64 3 Iz., Madrid 28001, Spain; DOB 29 Dec 1959; POB Barranquilla, Colombia; Cedula No. 16634827 (Colombia); Passport AJ424421 (Colombia) (individual) [SDNT].

5. QUINONES, Benedicto (a.k.a. QUINONEZ, Benedicto), c/o QUINONES MELO Y CIA. LTDA., Cali, Colombia; c/o ARTURO QUINONEZ LTDA., Cali, Colombia; c/o COMERCIALIZADORA CGQ LTDA., Cali, Colombia; Calle 12A No. 107-25 No. 2, Cali, Colombia; DOB 25 Jun 1946; POB Cali, Colombia; Cedula No. 14934266 (Colombia); Passport 14934266 (Colombia) (individual) [SDNT].

6. ROSERO ANGULO, German, Mexico; Calle 40 No. 27-59, Cali, Colombia; c/o LA HOLANDA S.A., Cali, Colombia; DOB 07 Oct 1964; POB Ipiales, Narino, Colombia; Cedula No. 16708846 (Colombia); Passport AF832289 (Colombia) (individual) [SDNT].

7. VALERO JIMENEZ, Alejandro, c/o UNIDAD CARDIOVASCULAR LTDA., Cali, Colombia; Transversal 18 No. 102-42 apto. 401, Bogota, Colombia; 826 SW Canary Terrace, Port St. Lucie, FL 34953; c/o ADMINISTRACION DE RECURSOS FINANCIEROS E.U., Cali, Colombia; c/o PROMOTORES DE BIENES RAICES S.A., Cali, Colombia; DOB 25 Oct 1967; POB Cali, Colombia; Cedula No. 16746340 (Colombia); Passport P059298 (Colombia) (individual) [SDNT].

8. VALERO JIMENEZ, Luis Hernan, Avenida 4N No. 19N-34, Cali, Colombia; Spain; c/o VALERO Y ASOCIADOS GABINETE JURIDICO S.L., Valencia, Spain; Paseo Murviedro Monte Picayo, No. 14, Pucol, Valencia, Spain; DOB 22 Sep 1965; Cedula No. 16723237 (Colombia); Passport 16723237 (Colombia) (individual) [SDNT].

9. VALERO SANCHEZ, Francisco Javier, c/o ASESORIAS OCUPACIONALES LTDA., Cali, Colombia; c/o UNIDAD CARDIOVASCULAR LTDA., Cali, Colombia; c/o PROMOTORES DE BIENES RAICES S.A., Cali, Colombia; Cedula No. 2436976 (Colombia) (individual) [SDNT].

Dated: May 20, 2008.
Adam J. Szubin,
Director, Office of Foreign Assets Control.

[FR Doc. E8-11679 Filed 5-23-08; 8:45 am]

BILLING CODE 4811-45-P